DEPARTMENT OF THE INTERIOR

National Park Service

[NPS-WASO-NAGPRA-NPS0029371; PPWOCRADN0-PCU00RP14.R50000]

Notice of Inventory Completion: Sam Noble Oklahoma Museum of Natural History, Norman, OK

AGENCY: National Park Service, Interior.

ACTION: Notice.

SUMMARY: The Sam Noble Oklahoma Museum of Natural History at the University of Oklahoma has completed an inventory of human remains and associated funerary objects, in consultation with the appropriate Indian Tribes or Native Hawaiian organization, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Sam Noble Oklahoma Museum of Natural History. If no additional requesters come forward, transfer of control of the human remains and associated funerary objects to the lineal descendants, Indian Tribes, or Native Hawaiian organizations stated in this notice may proceed.

DATES: Representatives of any Indian Tribe or Native Hawaiian organization not identified in this notice that wish to request transfer of control of these human remains and associated funerary objects should submit a written request with information in support of the request to the Sam Noble Oklahoma Museum of Natural History at the address in this notice by February 26, 2020.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History, Norman, OK. The human remains and associated funerary objects were removed from McIntosh County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Caddo Nation of Oklahoma and the Wichita and Affiliated Tribes (Wichita, Keechi, Waco & Tawakonie), Oklahoma (hereafter referred to as “The Tribes”).

History and Description of the Remains

In 1940, human remains representing, at minimum, 137 individuals were removed from the Eufaula Mound site (34Mi45), also known as the Groseclose site, in McIntosh County, OK. The site lies at the confluence of the North Canadian and Canadian Rivers, approximately 80 kilometers west of Spiro Mounds. Following extensive damage to the site from agricultural activities and looting, excavations were carried out by the Works Progress Administration during May-August 1940. The project was funded by the Creek Indian Memorial Association, and fieldwork was supervised by Kenneth Orr. Materials recovered during the excavation were split between the Creek Memorial Museum (later known as the Creek Council House Museum) and the Sam Noble Museum. Additional associated funerary objects described in the excavation report were never delivered to the Museum. Instead, the most valuable items were sent to the Creek Memorial Museum and allegedly stolen during the early 1980s. In 1958, the Creek Indian Museum of Okmulgee donated one of these associated funerary objects from the 1940 excavation to the Museum. The site was later flooded following the construction of the Eufaula Dam in 1964.

The human remains from 34Mi45 include partial skeletons of one child, 3-12 years old; two adults greater than 20 years old of indeterminate sex; one young adult of indeterminate sex, 20-35 years old; one middle adult of indeterminate sex, 35-50 years old; one young adult female, 20-35 years old; one female greater than 50 years old; one adult male greater than 20 years old; two young adult males, 20-35 years old; and one middle adult male, 35-50 years old. Fragmentary skeletons include eighteen children, 3-12 years old; six adolescents, 12-20 yrs; nineteen young adults, 20-35 years old of indeterminate sex; one adult female greater than 20 years old; two middle adult females, 35-50 years old; two adult males greater than 20 years old; two middle adult males, 35-50 years old; six middle adults of indeterminate sex, 35-50 years old; three older adults greater than 50 years old of indeterminate sex; and sixty-seven adults of indeterminate sex, all greater than 20 years old. No known individuals were identified. The 177 associated funerary objects include 13 faunal bone fragments, one stone chert nodule, one sample of unmodified stone pebbles, one unmodified rock, four samples of small unmodified pebbles that may have been associated with rattles, three limestone pipes, one stone flake, seven projectile points, two stone earspools, one galena fragment, five red ochre pigment samples, 10 copper fragments, 121 ceramic sherds, one ceramic bead, two shell beads, one copper covered wooden blade, two wood mask fragments with the remains of a copper veneer, and one soil sample from a pipe bowl.

All of the human remains in this notice are determined to be Native American based on their archeological context and collection history. Furthermore, all of the human remains and associated funerary offerings were most likely interred during the local Harlan through early Norman phases (A.D. 1100-1300) of the Mississippian Period. Archaeological data, together with ethnohistoric data, ethnographic data, and tribal oral histories support the determination that the human remains and associated funerary offerings can be culturally affiliated with both the Caddo Nation of Oklahoma and the Wichita and Affiliated Tribes (Wichita, Keechi, Waco & Tawakonie), Oklahoma.

Determinations Made by the Sam Noble Oklahoma Museum of Natural History

Officials of the Sam Noble Oklahoma Museum of Natural History have determined that:

• Pursuant to 25 U.S.C. 3001(9), the human remains described in this notice represent the physical remains of 137 individuals of Native American ancestry.

• Pursuant to 25 U.S.C. 3001(3)(A), the 177 objects described in this notice are reasonably believed to have been placed with or near individual human remains at the time of death or later as part of the death rite or ceremony.

• Pursuant to 25 U.S.C. 3001(2), a relationship of shared group identity that can be reasonably traced between the Native American human remains and associated funerary objects and The Tribes.

Additional Requesters and Disposition

Lineal descendants or representatives of any Indian Tribe or Native Hawaiian organization not identified in this notice that wish to request transfer of control of these human remains and associated funerary objects should submit a written request with information in support of the request to Dr. Marc Levine, Associate Curator of Archaeology, Sam Noble Oklahoma Museum of Natural History, University of Oklahoma, 2401 Chautauqua Avenue, Norman, OK 73072-7029, telephone (405) 325-1994, email mlevine@ou.edu, by February 26, 2020. After that date, if no additional requestors have come forward, transfer of control of the human remains and associated funerary objects to The Tribes may proceed.

The Sam Noble Oklahoma Museum of Natural History is responsible for notifying The Tribes that this notice has been published.

Dated: November 22, 2019.
Melanie O'Brien,
Manager, National NAGPRA Program.

[FR Doc. 2020-01337 Filed 1-24-20; 8:45 am]

BILLING CODE 4312-52-P